FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transactions Granted Early Termination
Transaction No. | Acquiring person | Acquired person | Acquired entities
Transactions Granted Early Termination—03/19/2001
20011555 | ABN AMRO Holding N.V | ING Groep N.V | ING Groep N.V.
20011559 | Republic Services, Inc | Bay Collection Services, Inc | Bay Collection Services, Inc.
20011560 | Republic Services, Inc | Bay Landfills, Inc | Bay Landfills, Inc.
20011565 | Paul G. Desmarais | MacKenzie Financial Corporation | MacKenzie Financial Corporation.
20011588 | Hudson United Bancorp | Vereniging AEGON | Vereniging AEGON.
20011597 | Green Equity Investors, L.P | Oshman's Sporting Goods, Inc | Oshman's Sporting Goods, Inc.
Transactions Granted Early Termination—03/20/2001
20011590 | AMVESCAP PLC | National Asset Management Corporation | National Asset Management Corporation.
Transactions Granted Early Termination—03/21/2001
20000686 | DTE Energy Company | MCN Energy Group Inc | MCN Energy Group Inc.
Transactions Granted Early Termination—03/22/2001
20011543 | REMY Capital Partners III, L.P | Patterson Energy, Inc | Patterson Energy, Inc.
20011556 | Pope Resources | Plum Creek Timber Company, Inc | Plum Creek Timber Company, Inc.
Transactions Granted Early Termination—03/23/2001
20011539 | Logitech International S.A | Labtec Inc | Labtec Inc.
20011540 | Boston Scientific Corporation | Interventional Technologies, Inc | Interventional Technologies, Inc.
20011591 | Fiber Mark, Inc | Rexam PLC | Rexam DSI Inc.
20011600 | Ledcor Inc | NetRail, Inc | NetRail, Inc.
20011604 | Performance Food Group Company | Henry Torres | Empire Imports, Inc.
|  |  | Empire Seafood Holding Corp.
20011606 | Briggs & Stratton Corporation | The Beacon Group III—Focus Value Fund, L.P | Generac Portable Products, Inc.
20011608 | Peregrine Sytstems, Inc | Extricity, Inc | Extricity, Inc.
20011612 | Commemorative Brands Holding Corp | Paul C. and Ann W. Krouse | Educational Communications, Inc.
20011613 | Lockheed Martin Corporation | Intelsat, Ltd | Intelsat, Ltd.
20011616 | Aon Corporation | ASO Solutions Incorporated | ASO Solutions Incorporated.
20011618 | Intel Corporation | VxTel, Inc | VxTel, Inc.
Transactions Granted Early Termination—03/26/2001
20011584 | Welsh, Carson, Anderson & Stowe, VIII, L.P | Peter T. Loftin | BTI Telecom Corp.
20011611 | Alamosa Holdings, Inc | Southwest PCS Holdings, Inc | Southwest PCS Holdings, Inc.
Transactions Granted Early Termination—03/27/2001
20011621 | The First American Corporation | Credit Management Solutions, Inc | Credit Management Solutions, Inc.
20011626 | American Capital Strategies, Ltd | Roy F. Weston, Inc | Roy F. Weston, Inc.
Transactions Granted Early Termination—03/29/2001
20011445 | Northrop Grumman Corporation | Litton Industries, Inc | Litton Industries, Inc.
20011614 | Exel plc | Joseph T Coughlin | Coughlin Transportation.
|  |  | Coughlin Worldwide Logistics, L.L.C.
|  |  | F.X. Coughlin Co., Inc.
20011617 | GTCR Fund VII, L.P | PSINet, Inc | PSINet Transaction Solutions Inc.
Transactions Granted Early Termination—03/30/2001
20011629 | i2 Technologies, Inc | Internet Capital Group, Inc | Right Works Corporation.
20011631 | XL Capital Ltd | Credit Suisse Group | Winterthur International America, Winterthur International.
20011641 | Xcel Energy Inc | George T. Lewis, Jr. and Betty G. Lewis (husband and wife) | LSP Batesville Holdings, LLC.

FOR FURTHER INFORMATION CONTACT: Sandra M. Peay or Parcellena P. Fielding, Contact Representatives, Federal Trade Commisision, Premerger Notificaiton Office, Bureau of Competition, Room 303 Washington, D.C. 20580, (202) 326-3100.

By direction of the Commission.
Benjamin I. Berman,
Acting Secretary.

[FR Doc. 01-9352 Filed 4-13-01; 8:45 am]

BILLING CODE 6750-01-M